DEPARTMENT OF ENERGY

Federal Energy Regulatory Commission

Combined Notice of Filings #2

Take notice that the Commission received the following electric rate filings:

Docket Numbers: ER11-4636-003.

Applicants: Portland General Electric Company.

Description: Colstrip compliance filing to be effective 10/1/2013.

Filed Date: 9/27/13.

Accession Number: 20130927-5083.

Comments Due: 5 p.m. ET 10/18/13.

Docket Numbers: ER12-2274-002.

Applicants: Public Service Electric and Gas Company, PJM Interconnection, L.L.C.

Description: Public Service Electric and Gas Company submits PSE&G submits compliance filing per 8/30/2013 Order in ER12-2274 to be effective 9/17/2012.

Filed Date: 9/27/13.

Accession Number: 20130927-5133.

Comments Due: 5 p.m. ET 10/18/13.

Docket Numbers: ER13-2463-000.

Applicants: NorthWestern Corporation.

Description: Revisions to OATT Schedule 3 to be effective 9/27/2013.

Filed Date: 9/27/13.

Accession Number: 20130927-5000.

Comments Due: 5 p.m. ET 10/18/13.

Docket Numbers: ER13-2464-000.

Applicants: Georgia-Pacific LLC, Crossett.

Description: Notice of Cancellation to be effective 12/2/2013.

Filed Date: 9/27/13.

Accession Number: 20130927-5003.

Comments Due: 5 p.m. ET 10/18/13.

Docket Numbers: ER13-2467-000.

Applicants: Louisville Gas and Electric Company.

Description: Revision Section 17 to be effective 11/26/2013.

Filed Date: 9/27/13.

Accession Number: 20130927-5056.

Comments Due: 5 p.m. ET 10/18/13.

Docket Numbers: ER13-2468-000.

Applicants: Midcontinent Independent System Operator, Inc.

Description: 09-27-13 CMMPA Att O and MM to be effective 1/1/2014.

Filed Date: 9/27/13.

Accession Number: 20130927-5075.

Comments Due: 5 p.m. ET 10/18/13.

Docket Numbers: ER13-2469-000.

Applicants: Arizona Public Service Company.

Description: Order No. 784 OATT Compliance Filing—Acct. for Speed & Accuracy of Resources to be effective 11/27/2013.

Filed Date: 9/27/13.

Accession Number: 20130927-5092.

Comments Due: 5 p.m. ET 10/18/13.

Docket Numbers: ER13-2470-000.

Applicants: Arizona Public Service Company.

Description: Update to MBR Tariff Authority to Sell Ancillary Services at MBR Rates to be effective 11/27/2013.

Filed Date: 9/27/13.

Accession Number: 20130927-5093.

Comments Due: 5 p.m. ET 10/18/13.

Docket Numbers: ER13-2471-000.

Applicants: Midcontinent Independent System Operator, Inc.

Description: Midcontinent Independent System Operator, Inc. submits tariff filing per 35.13(a)(2)(iii): 09-27-2013 SA 2328 California Ridge-Ameren GIA H100 to be effective 9/28/2013.

Filed Date: 9/27/13.

Accession Number: 20130927-5119.

Comments Due: 5 p.m. ET 10/18/13.

Docket Numbers: ER13-2472-000.

Applicants: Northeast Utilities Service Company.

Description: Northeast Utilities Service Company submits Cancellation of Transmission Service Agreements on behalf of its subsidiaries.

Filed Date: 9/27/13.

Accession Number: 20130927-5149.

Comments Due: 5 p.m. ET 10/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 27, 2013.
Nathaniel J. Davis, Sr.,
Deputy Secretary.

[FR Doc. 2013-24367 Filed 10-4-13; 8:45 am]

BILLING CODE 6717-01-P